DEPARTMENT OF STATE

[Public Notice: 9356]

Notice of Meeting of Advisory Committee on International Law

A meeting of the Department of State's Advisory Committee on International Law will take place on Thursday, December 10, from 9:30 a.m. to 5:00 p.m. at the George Washington University Law School, Michael K. Young Faculty Conference Center, 716 20th Street NW., 5th Floor, Washington, DC. Principal Deputy Legal Adviser Mary McLeod will chair the meeting, which will be open to the public up to the capacity of the conference room. It is anticipated that the agenda of the meeting will cover a range of current international legal topics, including the development of non-legally binding norms and instruments, the International Criminal Court and the “crime of aggression,” the upcoming ICRC Commentaries on the Geneva Conventions, and issues related to cross-border electronic data access.

Members of the public who wish to attend should contact the Office of the Legal Adviser by December 7 at thorntonnc@state.gov or 202-776-8356 and provide their name, professional affiliation, address, and phone number. A valid photo ID is required for admission to the meeting. Attendees who require reasonable accommodation should make their requests by December 4. Late requests will be considered but might not be possible to accommodate.

Dated: November 19, 2015.
Nicole C. Thornton,
Attorney-Adviser, Office of the Legal Adviser, Executive Director, Advisory Committee on International Law, United States Department of State.

[FR Doc. 2015-30063 Filed 11-24-15; 8:45 am]

BILLING CODE 4710-08-P